DEPARTMENT OF DEFENSE

Department of the Navy

Meeting of the Naval Research Advisory Committee

AGENCY: Department of the Navy, DOD.

ACTION: Notice of open meeting.

SUMMARY: The Naval Research Advisory Committee (NRAC) will meet on May 5, 2006. The meeting will be an Executive Session and will discuss a study undertaken by NRAC.

DATES: The meeting will be held on Friday, May 5, 2006, from 11 a.m. to 12 p.m. All sessions of the meeting will be open to the public.

ADDRESSES: The meeting will be held via telephone conference. Public access to the telephone conference will be available at the Office of Naval Research, 875 North Randolph Street, Arlington, VA 22203-1995.

FOR FURTHER INFORMATION CONTACT: Dr. Sujata Millick, Program Director, Naval Research Advisory Committee, 875 North Randolph Street, Arlington, VA 22203-1995, telephone 703-696-6769.

SUPPLEMENTARY INFORMATION: This notice is provided in accordance with the provisions of the Federal Advisory Committee Act (5 U.S.C. App. 2). All sessions of the meeting will be devoted to executive sessions to include discussions of the NRAC study on Ocean Sciences Research Vessel Support.

Dated: April 13, 2006.
Eric Mcdonald,
Lieutenant Commander, Judge Advocate General's Corps, U.S. Navy, Federal Register Liaison Officer.

[FR Doc. E6-6059 Filed 4-21-06; 8:45 am]

BILLING CODE 3810-FF-P